FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012405.

Title: Crowley/Hoegh Space Charter Agreement.

Parties: Crowley Latin America Services, LLC and Hoegh Autoliners AS.

Filing Party: Wayne R. Rohde, Esq.; Cozen O'Connor LLP; 1200 Nineteenth St. NW., Washington, DC 20036.

Synopsis: The Agreement authorizes Hoegh to charter space to Crowley in the trade between the U.S. Atlantic Coast and ports in Panama.

Agreement No.: 012406.

Title: COSCON/PIL Slot Exchange Agreement Asia—USWC.

Parties: COSCO Container Lines Company, Limited and Pacific International Lines (PTE) Ltd.

Filing Party: Eric. C. Jeffrey, Esq.; Nixon Peabody LLP; 799 9th Street NW., Suite 500, Washington, DC 20001.

Synopsis: The agreement provides for the exchange of slots between COSCON and PIL on their respective services in the trade between the United States West Coast and China (including Hong Kong), Korea, Malaysia, Singapore, Vietnam, Sri Lanka, Togo, Ghana, Ivory Coast, and Nigeria.

By Order of the Federal Maritime Commission.
Dated: April 29, 2016.
Rachel E. Dickon,
Assistant Secretary.

[FR Doc. 2016-10435 Filed 5-3-16; 8:45 am]

BILLING CODE 6731-AA-P